DEPARTMENT OF HOMELAND SECURITY

U.S. Customs and Border Protection

Agency Information Collection Activities: User Fees

AGENCY: U.S. Customs and Border Protection (CBP), Department of Homeland Security.

ACTION: 60-Day notice and request for comments; Extension of an existing collection of information: 1651-0052.

SUMMARY: As part of its continuing effort to reduce paperwork and respondent burden, CBP invites the general public and other Federal agencies to comment on an information collection requirement concerning User Fees. This request for comment is being made pursuant to the Paperwork Reduction Act of 1995 (Pub. L. 104-13; 44 U.S.C. 3505(c)(2)).

DATES: Written comments should be received on or before May 26, 2009, to be assured of consideration.

ADDRESSES: Direct all written comments to the U.S. Customs and Border Protection, Attn: Tracey Denning, Room 3.2.C, 1300 Pennsylvania Avenue, NW., Washington, DC 20229.

FOR FURTHER INFORMATION CONTACT: Requests for additional information should be directed to the U.S. Customs and Border Protection, Attn.: Tracey Denning, Room 3.2.C, 1300 Pennsylvania Avenue, NW., Washington, DC 20229, Tel. (202) 344-1429.

SUPPLEMENTARY INFORMATION: CBP invites the general public and other Federal agencies to comment on proposed and/or continuing information collections pursuant to the Paperwork Reduction Act of 1995 (Pub. L. 104-13; 44 U.S.C. 3505(c)(2)). The comments should address: (a) Whether the collection of information is necessary for the proper performance of the functions of the agency, including whether the information shall have practical utility; (b) the accuracy of the agency's estimates of the burden of the collection of information; (c) ways to enhance the quality, utility, and clarity of the information to be collected; (d) ways to minimize the burden including the use of automated collection techniques or the use of other forms of information technology; and (e) the annual costs burden to respondents or recordkeepers from the collection of information (a total capital/startup costs and operations and maintenance costs). The comments that are submitted will be summarized and included in the CBP request for Office of Management and Budget (OMB) approval. All comments will become a matter of public record. In this document CBP is soliciting comments concerning the following information collection:

Title: User Fees.

OMB Number: 1651-0052.

Form Number: CBP Forms 339A, 339C and 339V.

Abstract: The information collected on the User Fee Forms 339A, 339C and 339V is necessary in order for CBP to collect the proper amount of fees from private and commercial vessels, private aircraft, operators of commercial trucks, and passenger and freight railroad cars entering the United States. This collection of information also applies to reports filed by user fee express consignment operators.

Current Actions: This submission is being made to extend the expiration date with a change to the burden hours to allow for revisions to Form 339C for commercial vehicles.

Type of Review: Extension (with change).

Affected Public: Businesses or other for-profit institutions.

Estimated Number of Respondents: 75,030.

Estimated Number of Annual Responses: 75,110.

Estimated Time per Response: 18.5 minutes.

Estimated Total Annual Burden Hours: 23,562.

Dated: March 18, 2009.
Tracey Denning,
Agency Clearance Officer, Customs and Border Protection.

[FR Doc. E9-6552 Filed 3-24-09; 8:45 am]

BILLING CODE 9111-14-P